NUCLEAR REGULATORY COMMISSION

[Docket Nos. 50-528, 50-529, 50-530; NRC-2014-0053]

Palo Verde Nuclear Generating Station

AGENCY: Nuclear Regulatory Commission.

ACTION: License amendment application; withdrawal by applicant.

SUMMARY: The U.S. Nuclear Regulatory Commission (NRC) has granted the request of Arizona Public Service Company (the licensee) to withdraw its application dated March 8, 2012, for a proposed amendment to Facility Operating License Nos. NPF-41, NPF-51, and NPF-74. The proposed amendment would have revised the Technical Specifications (TS) to eliminate the use of the term CORE ALTERATIONS throughout the TS.

ADDRESSES: Please refer to Docket ID NRC-2014-0053 when contacting the NRC about the availability of information regarding this document. You may access publicly-available information related to this document using any of the following methods:

• Federal Rulemaking Web site: Go to http://www.regulations.gov and search for Docket ID NRC-2014-0053. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jennivine Rankin, Office of Nuclear Reactor Regulation, telephone: 301-415-1530, email: Jennivine.Rankin@nrc.gov; U.S. Nuclear Regulatory Commission, Washington, DC 20555-0001.

SUPPLEMENTARY INFORMATION: The NRC has granted the request of Arizona Public Service Company (the licensee) to withdraw its March 8, 2012, application (ADAMS Accession No. ML12076A045), for proposed amendment to Facility Operating License Nos. NPF-41, NPF-51, and NPF-74, for the Palo Verde Nuclear Generating Station, Units 1, 2, and 3, respectively, located in Maricopa County, Arizona.

The proposed amendment would have revised the Technical Specifications (TS) to eliminate the use of the term CORE ALTERATIONS throughout the TS. The proposed amendment incorporated changes reflected in Technical Specification Task Force (TSTF) Traveler 471-A, Revision 1, “Eliminate use of term CORE ALTERATIONS in ACTIONS and Notes.”

The Commission had previously issued a Notice of Consideration of Issuance of Amendment published in the Federal Register on June 12, 2012 (77 FR 35071). The licensee supplemented their original application by letters dated October 11, 2012; January 31, 2013; and July 25, 2013; respectively (ADAMS Accession Nos. ML12286A330, ML13039A013, and ML13210A238). However, by letter dated February 13, 2014 (ADAMS Accession No. ML14051A103), the licensee withdrew the proposed change.

Dated at Rockville, Maryland, this 7th day of March 2014.
For the Nuclear Regulatory Commission.
Balwant K. Singal,
Senior Project Manager, Plant Licensing Branch IV-1, Division of Operating Reactor Licensing, Office of Nuclear Reactor Regulation.

[FR Doc. 2014-05935 Filed 3-17-14; 8:45 am]

BILLING CODE 7590-01-P